DEPARTMENT OF DEFENSE

Department of the Army

Program Comment Plan for Preservation of Pre-1919 Historic Army Housing, Associated Buildings and Structures, and Landscape Features

AGENCY: Department of the Army, DoD.

ACTION: Notice of availability.

SUMMARY: The Department of the Army (Army) is making its Program Comment Plan for Preservation of Pre-1919 Historic Army Housing, Associated Buildings and Structures, and Landscape Features (Army Program Comment Plan) available for public review. The Army Program Comment Plan is located on the Army's website: https://denix.osd.mil/army-pre1919-pchh/. This notice of availability for public review of the Army Program Comment Plan initiates the Army's public participation requirements for the Army's proposed Program Comment for Preservation of Pre-1919 Historic Army Housing, Associated Buildings and Structures, and Landscape Features (Program Comment).

DATES: Consideration will be given to all comments on the Army Program Comment Plan that are received within 30 days following the date of this publication.

ADDRESSES: Written comments identified by “Army Program Comment Plan” should be submitted to: Office of the Assistant Secretary of the Army for Installations, Energy and Environment, ATTN: DASA-ESOH (Dr. David Guldenzopf), 110 Army Pentagon, Room 3E464, Washington, DC 20310, or by email to david.b.guldenzopf.civ@army.mil.

FOR FURTHER INFORMATION CONTACT: Dr. David Guldenzopf, Department of the Army Federal Preservation Officer, (703) 459-7756, david.b.guldenzopf.civ@army.mil.

SUPPLEMENTARY INFORMATION: Program Comment Plan for Preservation of Pre-1919 Historic Army Housing, Associated Buildings and Structures, and Landscape Features.

On 19 September 2023, the Department of the Army Federal Preservation Officer notified the Advisory Council on Historic Preservation (ACHP) of the Army's intent to request a Program Comment for Preservation of Pre-1919 Historic Army Housing, Associated Buildings and Structures, and Landscape Features in accordance with the National Historic Preservation Act (NHPA) 54 U.S.C. 306108, and 36 CFR 800.14(e). The goal of the Program Comment is to provide the Army compliance with the National Historic Preservation Act (NHPA) 54 U.S.C. 306108, for the repetitive management actions occurring on this large inventory of historic properties by means of the procedures in 36 CFR 800.14(e), in lieu of conducting individual projects reviews under 36 CFR 800.3 through 800.7.

James W. Satterwhite Jr.,
Army Federal Register Liaison Officer.

[FR Doc. 2023-23342 Filed 10-20-23; 8:45 am]

BILLING CODE 3711-02-P